DEPARTMENT OF THE INTERIOR

Fish and Wildlife Service

[FWS-R3-R-2010-N042; 30136-1265-0000-S3]

Swan Lake National Wildlife Refuge, Chariton County, MO

AGENCY: Fish and Wildlife Service, Interior.

ACTION: Notice of availability: draft comprehensive conservation plan and environmental assessment; request for comments.

SUMMARY: We, the U.S. Fish and Wildlife Service (Service), announce the availability of a draft comprehensive conservation plan (CCP) and draft environmental assessment (EA) for Swan Lake National Wildlife Refuge (NWR) for public review and comment. In this draft CCP/EA we describe how we propose to manage the refuge for the next 15 years.

DATES: To ensure consideration, we must receive your written comments by July 5, 2010. An open house style meeting will be held during the comment period to receive comments and provide information on the draft plan. Special mailings, newspaper articles, internet postings, and other media announcements will inform people of the meetings and opportunities for written comments.

ADDRESSES: Comments or requests for more information can be sent by any of the following methods. You may also drop off comments in person at Swan Lake NWR.

1. Agency Web site: View or download a copy of the document and comment at http://www.fws.gov/midwest/planning/SwanLake/index.html.

2. E-mail: r3planning@fws.gov. Include “Swan Lake Draft CCP/EA” in the subject line of the message.

3. Fax: 660-856-3687.

4. Mail: Attention: Refuge Manager, Swan Lake National Wildlife Refuge, 16194 Swan Lake Avenue, Sumner, Missouri 64681.

FOR FURTHER INFORMATION CONTACT: Steve Whitson, 660-856-3323.

SUPPLEMENTARY INFORMATION:

Introduction

With this notice, we continue the CCP process for Swan Lake NWR, which we began by publishing a notice of intent on (71 FR 20722-20723, April 21, 2006). For more about the initial process and the history of this refuge, see that notice.

Swan Lake NWR was established in 1937 by Executive Order 7563 to serve as a refuge and breeding ground for migratory birds and other wildlife. The Refuge includes 10,670 acres and is also responsible for managing 57 easements and outlying fee title tracts scattered across 15 counties in Missouri.

Background

The CCP Process

The National Wildlife Refuge System Administration Act of 1966, as amended by the National Wildlife Refuge System Improvement Act of 1997 (16 U.S.C. 668dd-668ee), requires us to develop a comprehensive conservation plan for each national wildlife refuge. The purpose in developing a CCP is to provide refuge managers with a 15-year strategy for achieving refuge purposes and contributing toward the mission of the National Wildlife Refuge System, consistent with sound principles of fish and wildlife management, conservation, legal mandates, and Service policies. In addition to outlining broad management direction on conserving wildlife and their habitats, plans identify wildlife-dependent recreational opportunities available to the public, including opportunities for hunting, fishing, wildlife observation, wildlife photography, and environmental education and interpretation.

CCP Alternatives and Our Preferred Alternative

Priority Issues

During the public scoping process, we, other stakeholders and partners, and the public identified several priority issues, which include habitat management, sedimentation, flooding, and demand for additional recreation opportunities and visitor services. To address these issues, we developed and evaluated the following alternatives during the planning process.

Alternative 1: Current Management Direction and Activities (No Action)

The current management direction of Swan Lake NWR would be maintained under this alternative. For NEPA purposes, this is referred to as the “No Action” alternative, a misnomer as some changes will occur over the next 15 years. Management includes conservation, restoration, and preservation but occurs opportunistically as budgets allow. Farming and water management would continue in those areas where it currently exists. Some programs, especially environmental education and outreach, would see improvements only if budgets increase in the future.

Alternative 2

Under Alternative 2, we will focus on restoring Refuge streams as free flowing streams with fluctuating water levels and increasing the amount of native habitats. Many of the constructed management areas (moist soil units, open waters, and agricultural areas) are restored to more natural or historic landscape conditions. Duck and small game hunting are introduced as well as increased seasonal access for wildlife observation.

Alternative 3: (Preferred Alternative)

Under Alternative 3, we will mimic components of historic hydrologic function within Refuge streams by allowing seasonal and annual variations in water levels. Manage up to 1,300 acres of emergent wetland habitat using moist soil techniques. Increase the amount of wet meadow and native prairie and reduce the amount of cropland. We will increase opportunities for hunting and wildlife observation as in Alternative 2, but also increase emphasis on interpretation and education and develop additional volunteer opportunities.

Public Meeting

We will give the public an opportunity to provide input at a public meeting. You can obtain the schedule from the address or Web site listed in this notice (see addresses). You may also submit comments anytime during the comment period.

Public Availability of Comments

Before including your address, phone number, e-mail address, or other personal identifying information in your comment, you should be aware that your entire comment—including your personal identifying information—may be made publicly available at any time. While you can ask us in your comment to withhold your personal identifying information from public review, we cannot guarantee that we will be able to do so.

Dated: April 6, 2010.
Christopher P. Jensen,
Acting Regional Director, U.S. Fish and Wildlife Service, Fort Snelling, Minnesota.

[FR Doc. 2010-13009 Filed 5-28-10; 8:45 am]

BILLING CODE 4310-55-P